DEPARTMENT OF HOUSING AND URBAN DEVELOPMENT

Office of Federal Housing Enterprise Oversight

12 CFR Part 1700

RIN 2550-AA10

Organization and Functions

AGENCY: Office of Federal Housing Enterprise Oversight, HUD.

ACTION: Final rule.

SUMMARY: The Office of Federal Housing Enterprise Oversight (OFHEO) is revising its regulations that describe the Agency's organization and functions. The revisions reflect changes in the organizational structure of the Agency and the functional responsibilities of its offices. The revisions include a summary of two new offices and a reference to the location of OFHEO's website.

In promulgating this rule, OFHEO finds that notice and public comment are not necessary. Section 553(b)(3)(A) of Title 5, United States Code, provides that when regulations involve matters of agency organization, procedure or practice, the Agency may publish regulations in final form. In addition, OFHEO finds, in accordance with 5 U.S.C. 553(d), that a delayed effective date is unnecessary. Accordingly, these regulations are effective upon publication.

EFFECTIVE DATE: The final rule is effective June 28, 2000.

FOR FURTHER INFORMATION CONTACT: Christine C. Dion, Associate General Counsel, telephone (202) 414-3838 (not a toll-free number), Office of Federal Housing Enterprise Oversight, Fourth Floor, 1700 G Street, NW., Washington, DC 20552. The telephone number for the Telecommunications Device for the Deaf is (800) 877-8339.

SUPPLEMENTARY INFORMATION:

Discussion of the Final Regulation

This final rule informs the public about structural and functional changes within OFHEO that were recently implemented by the Director. Changes in the Agency's structure consist of the establishment of the “Office of Information Technology” and the “Office of Strategic Planning and Management”.

The function of the “Office of Information Technology” is to plan, develop, secure, maintain, and assure the quality of OFHEO information systems and records management functions. The functions of the “Office of Strategic Planning and Management”are to assist the Director in developing and maintaining a long-term strategic plan that is consistent with the mission of OFHEO, and to facilitate efforts to ensure that agency activities and operations are consistent with its strategic plan. This office also is responsible for leading the development of OFHEO's Annual Performance Plans and Annual Performance Reports.

Functional changes made by the Director to existing OFHEO offices are reflected in the offices' new titles. The “Office of Research, Analysis and Capital Standards” has been renamed the “Office of Risk Analysis and Model Development”. This new title indicates that this office's principal functions are to develop and apply econometric, financial, and accounting models to evaluate the credit and interest rate risks of Freddie Mac and Fannie Mae (collectively, the “Enterprises”), and to undertake related research and analyses. Notably, this office has developed and continues to maintain and enhance the set of models used for stress tests of the Enterprises, including the stress test to determine risk-based capital requirements, as required by OFHEO's enabling statute.¹ In addition to risk analysis and model development, this office has ongoing responsibility for determining the capital classifications of the Enterprises in order to ensure their capital adequacy.

¹ Federal Housing Enterprises Financial Safety and Soundness Act of 1992, Title XIII, Pub. L. 102-550, 106 Stat. 3941 et seq. (Oct. 29, 1992), section 1361.

Moreover, the “Office of the Chief Economist” has been renamed the “Office of Policy Analysis and Research”. The name change reflects that the office's primary function is conducting research and policy analysis to assess and project the short- and long-term impact of issues and trends in housing finance. In addition to performing research and analyses, this office is responsible for developing policy options and making recommendations on a broad range of issues relevant to OFHEO's regulatory oversight.

Although its functions have not changed, the “Office of Congressional and Public Affairs” has been renamed the “Office of External Relations” to represent its broader external responsibilities, including the coordination and communication with Congress, the news media and the public. The head of the office, the Associate Director for External Relations, continues to serve as spokesperson for OFHEO.

The “Office of the General Counsel” is not included in this rule because its functions and name have not changed. The “Office of Examination Oversight” and the “Office of Finance and Administration” are included in order to provide more detail about their functions.

This rule also references OFHEO's website where, among other things, the public may learn about the Agency. To that end, OFHEO's website includes an organizational chart, which reflects the Agency's structure noted in this rule.

Regulatory Impact

Executive Order 12866, Regulatory Planning and Review

This final rule is not classified as a significant rule under Executive Order 12866 because it will not result in: (1) An annual effect on the economy of $100 million or more; (2) a major increase in costs or prices for consumers, individual industries, Federal, State, or local government agencies, or geographic regions; or (3) significant adverse effects on competition, employment, investment, productivity, innovation, or on the ability of United States-based enterprises to compete with foreign-based enterprises in domestic or foreign markets. Accordingly, no regulatory impact assessment is required and this final rule has not been submitted to the Office of Management and Budget for review.

Regulatory Flexibility Act

The Regulatory Flexibility Act (5 U.S.C. 601 et seq.) requires that a rule that has a significant economic impact on a substantial number of small entities, small businesses, or small organizations must include an initial regulatory flexibility analysis describing the regulation's impact on small entities. Such an analysis need not be undertaken if the Agency has certified that the regulation will not have a significant economic impact on a substantial number of small entities. 5 U.S.C. 605(b). OFHEO has considered the impact of this final rule under the Regulatory Flexibility Act. The General Counsel certifies that this final rule will not have a significant economic impact on a substantial number of small business entities.

Paperwork Reduction Act

This final rule does not contain any information collection requirements that require the approval of the Office of Management and Budget under the Paperwork Reduction Act (44 U.S.C. 3501 et seq.).

Unfunded Mandates Reform Act of 1995

This final rule does not require the preparation of an assessment statement in accordance with the Unfunded Mandates Reform Act of 1995, 2 U.S.C. 1531. Assessment statements are not required for regulations that incorporate requirements specifically set forth in law. As explained in the preamble, this rule implements specific statutory requirements. In addition, this rule does not include a Federal mandate that may result in the expenditure by State, local, and tribal governments, in the aggregate, or by the private sector, of $100 million or more (adjusted annually for inflation) in any one year.

List of Subjects in 12 CFR Part 1700

Organization and functions (Government agencies).

For the reasons stated in the preamble, OFHEO is amending 12 CFR part 1700 as follows:

PART 1700—ORGANIZATION AND FUNCTIONS

1. The authority citation for part 1700 continues to read as follows:

Authority: 5 U.S.C. 552; 12 U.S.C. 4513, 4526.

2. Section 1700.2 is amended by:

A. Revising paragraphs (c)(1), (c)(2), (c)(3), (c)(5) and (c)(6);

B. Adding paragraphs (c)(7) and (c)(8); and

C. Revising paragraph (d).

§ 1700.2 Organization of the Office of Federal Housing Enterprise Oversight.

* * * * *

(c) Offices and functions. (1) Office of Examination and Oversight. The Office of Examination and Oversight plans and conducts examinations of the Enterprises, as required by the Act, prepares and issues reports of examination summarizing the financial condition and management practices of each Enterprise, and recommends corrective and preventative actions as appropriate. This office also is responsible for off-site financial safety and soundness monitoring.

(2) Office of Risk Analysis and Model Development. The Office of Risk Analysis and Model Development develops and applies econometric, financial and accounting models to evaluate the credit and interest rate risks of the Enterprises, and undertakes other related research and analyses. This office has developed and continues to maintain and enhance the set of models used for stress tests of the Enterprises, including the stress test to determine risk-based capital requirements, as required by the Act. This office is responsible for applying minimum and risk-based capital requirements in determining the capital classifications of the Enterprises in order to ensure their capital adequacy.

(3) Office of Finance and Administration. The Office of Finance and Administration provides support services in all areas of financial and administrative management of OFHEO. This office is responsible for developing, managing and implementing agency policies and procedures governing: (i) All human resources functions, including payroll; (ii) Support for all facility and supply requirements; (iii) Agency contracting and procurement programs; and (iv) Agency financial management, budgeting and accounting functions, including travel, internal controls and financial reporting.

* * * * *

(5) Office of External Relations. The Office of External Relations is responsible for coordinating and communicating on behalf of OFHEO with the Congress, for monitoring relevant legislative developments, and for analyzing and assisting the Director in developing legislative proposals. This office also is responsible for directing and coordinating communication with the news media and the public. The Associate Director for Public Affairs serves as spokesperson for OFHEO.

(6) Office of Policy Analysis and Research. The Office of Policy Analysis and Research conducts research and policy analysis to assess and project the short- and long-term impact of issues and trends in housing finance on OFHEO's regulatory and supervisory responsibilities. This office also develops policy options and makes recommendations to the Director on a broad range of issues.

(7) Office of Information Technology. The Office of Information Technology plans, develops, secures, maintains, and assures the quality of the OFHEO information systems and records management functions. This office is responsible for establishing and implementing policies, procedures and standards in the following areas: information systems development and procurement, office automation, records management, information systems security and other information technology-related services.

(8) Office of Strategic Planning and Management. The Office of Strategic Planning and Management assists the Director in developing and maintaining a long term strategic plan that is consistent with the mission of OFHEO and facilitates efforts to ensure that the activities and operations of the Agency are consistent with the strategic plan. This office also is responsible for leading the development of OFHEO's Annual Performance Plans and Annual Performance Reports.

(d) Additional information. Current information on the organization of OFHEO may be obtained by mail from the Office of External Affairs, 1700 G Street NW, 4th Floor, Washington, DC 20552. Such information, as well as other OFHEO information, also may be obtained electronically by accessing OFHEO's website located at “www.OFHEO.gov”.

Dated: June 22, 2000.
Armando Falcon, Jr.,
Director, Office of Federal Housing Enterprise Oversight.

[FR Doc. 00-16287 Filed 6-27-00; 8:45 am]

BILLING CODE 4226-01-U